FEDERAL COMMUNICATIONS COMMISSION

47 CFR Part 73

[DA 01-1895 MM Docket No. 99-318, RM-9745]

Digital Television Broadcast Service; Panama City, FL

AGENCY: Federal Communications Commission.

ACTION: Final rule.

SUMMARY: The Commission, at the request of Waitt License Company of Florida, Inc., licensee of station WPGX(TV), substitutes DTV channel 9 for DTV 29c at Panama City, Florida. See 64 FR 60149, November 4, 1999. DTV channel 9 can be allotted to Panama City in compliance with the principle community coverage requirements of Section 73.625(a) at reference coordinates (30-13-45 N. and 85-23-20 W.) with a power of 130, HAAT of 264 meters and with a DTV service population of 312 thousand.

With this action, this proceeding is terminated.

DATES: Effective September 24, 2001.

FOR FURTHER INFORMATION CONTACT: Pam Blumenthal, Mass Media Bureau, (202) 418-1600.

SUPPLEMENTARY INFORMATION: This is a synopsis of the Commission's Report and Order, MM Docket No. 99-318, adopted August 8, 2001, and released August 9, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Florida, is amended by removing DTV channel 29c and adding DTV channel 9 at Panama City.

Federal Communications Commission.
Barbara A. Kreisman,
Chief, Video Services Division, Mass Media Bureau.

[FR Doc. 01-20290 Filed 8-13-01; 8:45 am]

BILLING CODE 6712-01-P